DEPARTMENT OF COMMERCE

National Oceanic and Atmospheric Administration

[I.D. 100101D]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will hold public meetings.

DATES: The Council and its advisory bodies will meet October 28, 2001-November 2, 2001. The Council meeting will begin on Monday, October 29, 2001, at 3 p.m., reconvening each day at 8 a.m. through Friday. All meetings are open to the public, except a closed session will be held at 4 p.m. on Monday, October 29, 2001, to address litigation and personnel matters. The Council will meet as late as necessary each day to complete its scheduled business.

ADDRESSES: The meetings will be held at the Clarion Hotel San Francisco Airport, 401 East Millbrae Avenue, Millbrae, CA 94030; telephone: 650-692-6363.

Council address: Pacific Fishery Management Council, 7700 NE Ambassador Place, Suite 200, Portland, OR 97220.

FOR FURTHER INFORMATION CONTACT: Dr. Donald O. McIsaac, Executive Director; telephone: 503-326-6352.

SUPPLEMENTARY INFORMATION: The following items are on the Council agenda, but not necessarily in this order. All items listed are subject to potential Council action.

A. Call to Order

1. Opening Remarks, Introductions

2. Council Member Appointments

3. Roll Call

4. Executive Director's Report

5. Approve Agenda

6. Approve September 2001 Minutes

B. Pacific Halibut Management

Proposed Changes to the Recreational Catch Sharing Plan and Annual Regulations for 2002

C. Groundfish Management

1. NMFS Report

2. Marine Recreational Fisheries Statistics Survey Update

3. Final Harvest Levels for 2002

4. Management Measures for 2002 and Environmental Assessment

5. Groundfish Strategic Plan Implementation

6. Rebuilding Plans

7. Groundfish Fishery Management Plan Environmental Impact Statement

8. Exempted Fishing Permits (EFP)

9. Status of Fisheries and Inseason Adjustments

D. Salmon Management

1. NMFS Report

2. Update of Ongoing Fisheries

3. Salmon Option Hearing Sites

4. Sacramento Winter Run Chinook Management

5. Results of Scientific and Statistical Committee (SSC) Methodology Review

6. Queets River Coho Status Review

E. Habitat Issues

Essential Fish Habitat Issues

F. Marine Reserves

1. Status of Marine Reserves Proposals for Channel Island National Marine Sanctuary

G. Highly Migratory Species Management

1. NMFS Report

2. Draft Highly Migratory Species Fishery Management Plan (FMP)

3. Draft FMP Public Hearing Schedule and Sites

H. Coastal Pelagic Species Management

1. NMFS Report

2. Amendment 10 to the Coastal Pelagic Species FMP

3. Pacific Sardine Harvest Guideline for 2002

I. Administrative and Other Matters

1. Status of Legislation

2. Elections and Appointments

3. Report of the Budget Committee

4. Council Staff Work Load Priorities

5. March 2002 Council Meeting Draft Agenda

Schedule of Ancillary Meetings

The following ancillary meetings are scheduled in addition to the Council general sessions.

Sunday, October 28, 2001

Groundfish Management Team, 2 p.m.

Monday, October 29, 2001

Groundfish Advisory Subpanel, 8 a.m.

Groundfish Management Team, 8 a.m.

Scientific and Statistical Committee, 8 a.m.

Habitat Steering Group, 8 a.m.

Budget Committee, 10 a.m.

Tuesday, October 30, 2001

California State Delegation, 7 a.m.

Oregon State Delegation, 7 a.m.

Washington State Delegation, 7 a.m.

Groundfish Advisory Subpanel, 8 a.m.

Groundfish Management Team, 8 a.m.

Scientific and Statistical Committee, 8 a.m.

Enforcement Consultants, immediately following Council session.

Wednesday, October 31, 2001

California State Delegation, 7 a.m.

Oregon State Delegation, 7 a.m.

Washington State Delegation, 7 a.m.

Groundfish Advisory Subpanel, 8 a.m.

Highly Migratory Species Advisory Subpanel, 8 a.m.

Coastal Pelagic Species Advisory Subpanel, 10 a.m.

Groundfish Management Team, as necessary

Enforcement Consultants, as necessary

Thursday, November 1, 2001

California State Delegation, 7 a.m.

Oregon State Delegation, 7 a.m.

Washington State Delegation, 7 a.m.

Groundfish Advisory Subpanel, 8 a.m.

Groundfish Management Team, as necessary.

Enforcement Consultants, as necessary.

Friday, November 2, 2001

California State Delegation, 7 a.m.

Oregon State Delegation, 7 a.m.

Washington State Delegation, 7 a.m.

Enforcement Consultants, as necessary.

Although non-emergency issues not contained in this agenda may come before the Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: October 5, 2001.
Richard W. Surdi,
Acting Director, Office of Sustainable Fisheries, National Marine Fisheries Service.

[FR Doc. 01-25717 Filed 10-11-01; 8:45 am]

BILLING CODE 3510-22-S